FEDERAL MINE SAFETY AND HEALTH REVIEW COMMISSION

Sunshine Act Meeting

February 2, 2003.

Time and Date: 10 a.m., Thursday, February 12, 2004.

Place: Hearing Room, 9th Floor, 601 New Jersey Avenue, NW., Washington, DC.

Status: Closed [pursuant to 5 U.S.C. 552b(c)(10)].

Matters To Be Considered: The Commission will consider and act upon the following in closed session:

In re Request for Relief Cases. (The Commission will discuss methods of disposing of the approximately 50 cases pending on the Commission's docket that involve requests for relief from final Commission orders.)

Contact Person for More Information: Jean Ellen (202) 434-9950/(202) 708-9300 for TDD Relay/1-800-877-8339 for toll free.

[FR Doc. 04-2889 Filed 2-5-04; 3:25 pm]

BILLING CODE 6735-01-M